DEPARTMENT OF THE INTERIOR

Fish and Wildlife Service

[FWS-R4-R-2013-N104; FXRS12650400000S3-123-FF04R02000]

Theodore Roosevelt National Wildlife Refuge, Sharkey County, MS; and Holt Collier National Wildlife Refuge in Washington County, MS

AGENCY: Fish and Wildlife Service, Interior.

ACTION: Notice of intent to prepare a comprehensive conservation plan and environmental assessment; request for comments.

SUMMARY: We, the Fish and Wildlife Service (Service), intend to prepare a comprehensive conservation plan (CCP) and associated National Environmental Policy Act (NEPA) documents for Theodore Roosevelt and Holt Collier National Wildlife Refuges (NWRs). We provide this notice in compliance with our CCP policy to advise other Federal and State agencies, Native-American tribes, and the public of our intentions, and to obtain suggestions and information on the scope of issues to consider in the planning process.

DATES: To ensure consideration, we must receive your written comments by August 29, 2013.

ADDRESSES: You may send comments, questions, and requests for information to: Justin Sexton, Refuge Manager, Yazoo National Wildlife Refuge, 595 Yazoo Refuge Road, Hollandale, MS 38748.

FOR FURTHER INFORMATION CONTACT: Mr. Justin Sexton, at 662/839-2638 (telephone); or you may email Mr. Sexton at, Justin_Sexton@fws.gov.

SUPPLEMENTARY INFORMATION:

Introduction

With this notice, we initiate our process for developing a CCP for Theodore Roosevelt and Holt Collier NWRs in Sharkey and Washington Counties, MS. This notice complies with our CCP policy to: (1) Advise other Federal and State agencies, Native-American tribes, and the public of our intention to conduct detailed planning on this refuge; and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. We encourage input in the form of issues, concerns, ideas, and suggestions for the future management of Theodore Roosevelt and Holt Collier NWRs.

We will conduct the environmental review of this project in accordance with the requirements of the National Environmental Policy Act of 1969, as amended (NEPA) (42 U.S.C. 4321 et seq.); NEPA regulations (40 CFR 1500-1508); other appropriate Federal laws and regulations; and our policies and procedures for compliance with those laws and regulations.

Both refuges were created “for conservation purposes” (7 U.S.C. 2002). The legislative authority for Holt Collier National Wildlife Refuge also comes from the Fish and Wildlife Coordination Act (16 U.S.C. 661-667e). This refuge consists of approximately 1,439 acres of former Farmers Home Administration (now known as the Farm Service Agency) lands in Washington County. Holt Collier NWR is located near Darlove, MS. The refuge is open year-round for wildlife-related activities such as hunting, wildlife observation, and nature photography. The refuge habitat, formerly consisting of agricultural lands, has been nearly reforested to bottomland hardwoods.

Theodore Roosevelt National Wildlife Refuge is in Sharkey County. To date, 870 acres have been purchased in fee-title. The habitat consists of: Former, native bottomland hardwoods planted to trees; farmlands; and open water. The refuge is not open to the public. There are no public facilities on either of these refuges.

Public Availability and Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: June 14, 2013.
Mike Oetker,
Deputy Regional Director.

[FR Doc. 2013-18231 Filed 7-29-13; 8:45 am]

BILLING CODE 4310-55-P